DEPARTMENT OF TRANSPORTATION

Office of the Secretary

Aviation Proceedings, Agreements Filed the Week Ending August 10, 2007

The following Agreements were filed with the Department of Transportation under the Sections 412 and 414 of the Federal Aviation Act, as amended (49 U.S.C. 1383 and 1384) and procedures governing proceedings to enforce these provisions. Answers may be filed within 21 days after the filing of the application.

Docket Number: OST-2007-28984.

Date Filed: August 9, 2007.

Parties: Members of the International Air Transport Association.

Subject:

Resolutions Adopted for Expedited Effectiveness, r.814, r.818, r.818g, and r.832.

Intended effective date: 1 September 2007 or 1 October 2007 as indicated.

Docket Number: OST-2007-28986.

Date Filed: August 9, 2007.

Parties: Members of the International Air Transport Association.

Subject:

Finally Adopted Resolutions for Normal Effectiveness: r.03, r.800, r.800a, r.800b, r.800c, r.800e, r.800t, r.804, r.808, r.810, r.810c, r.810i, r.810j, r.810r, r.814, r.814ff, r.814hh, r.814pp, r.816, r.818, r.818a, r.820e, r.822, r.824r, r.832, r.850, r.850a, r.850c, r.850m, r.850p, r.854, r.856, r.860a, r.866, and r.890.

Intended effective date: 1 January 2008.

Docket Number: OST-2007-28998.

Date Filed: August 9, 2007.

Parties: Members of the International Air Transport Association.

Subject:

Mail Vote Number A 137 Implementation of Resolution 814 in Ukraine.

Intended effective date: 1 April 2007.

Docket Number: OST-2007-28999.

Date Filed: August 10, 2007.

Parties: Members of the International Air Transport Association.

Subject:

Mail Vote Number A 138 Resolution 832 Remittance in Canada.

Intended effective date: 1 April 2007.

Renee V. Wright,
Program Manager, Docket Operations, Federal Register Liaison.

[FR Doc. E7-18578 Filed 9-19-07; 8:45 am]

BILLING CODE 4910-9X-P